DEPARTMENT OF HEALTH AND HUMAN SERVICES

Centers for Disease Control and Prevention

[Program Announcement #02003]

Disease, Disability, and Injury Prevention and Control Special Emphasis Panel: Community-Based Participatory Prevention Research

In accordance with section 10(a)(2) of the Federal Advisory Committee Act (Pub. L. 92-463), the Centers for Disease Control and Prevention (CDC) announces the following meeting:

Name: Disease, Disability, and Injury Prevention and Control Special Emphasis Panel (SEP): Community-Based Participatory Prevention Research, Program Announcement #02003, Supplemental Review.

Times and Dates: 10 a.m.-10:25 a.m., July 8, 2002 (Open), 10:30 a.m.-12 noon, July 8, 2002 (Closed).

Place: Teleconference number: 404.639.4100, Conference Code 935293.

Status: Portions of the meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to PA# 02003.

Note: Due to administrative oversight, this notice is being published less than fifteen days prior to the meeting date.

Contact Person for More Information: Theodore J. Meinhardt, Associate Director for Management and Operations, 4770 Buford Highway, MS-K38, Atlanta, Georgia 30341, 770.488.2505.

The Director, Management Analysis and Services Office has been delegated the authority to sign Federal Register notices pertaining to announcements of meetings and other committee management activities, for both the Centers for Disease Control and Prevention and the Agency for Toxic Substances and Disease Registry.

Dated: June 21, 2002.
John C. Burckhardt,
Acting Director, Management Analysis and Services Office, Centers for Disease Control and Prevention (CDC).

[FR Doc. 02-16298 Filed 6-26-02; 8:45 am]

BILLING CODE 4163-18-P